DEPARTMENT OF COMMERCE

International Trade Administration

University of Miami, et al.; Notice of Consolidated Decision on Applications for Duty-Free Entry of Electron Microscopes

This is a decision consolidated pursuant to Section 6(c) of the Educational, Scientific, and Cultural Materials Importation Act of 1966 (Pub. L. 89-651, as amended by Pub. L. 106-36; 80 Stat. 897; 15 CFR part 301). Related records can be viewed between 8:30 a.m.. and 5 p.m. in Room 2104, U.S. Department of Commerce, 14th and Constitution Avenue., NW., Washington, DC.

Docket Number: 07-023. Applicant: University of Miami, Coral Gables, FL. Instrument: Electron Microscope, Model JEM-1400. Manufacturer: JEOL, USA, Inc., Japan. Intended Use: See notice at 72 FR 27076, May 14, 2007. Order Date: September 27, 2006.

Docket Number: 07-024. Applicant: Shriners Hospitals for Children, Portland, OR. Instrument: Transmission Electron Microscope. Manufacturer: FEI, Company, The Netherlands. Intended Use: See notice at 72 FR 27076, May 14, 2007. Order Date: December 20, 2006.

Docket Number: 07-027. Applicant: University of Missouri-Columbia, Columbia, MO. Instrument: Transmission Electron Microscope, Model JEM -1400. Manufacturer: JEOL, Japan. Intended Use: See notice at 72 FR 27076, May 14, 2007. Order Date: January 10, 2007.

Docket Number: 07-028. Applicant: Vanderbilt University, Nashville, TN. Instrument: Transmission Electron Microscope, Model FP 5005/05. Manufacturer: FEI, Brno, Czech Republic. Intended Use: See notice at 72 FR 27076, May 14, 2007. Order Date: December 20, 2006.

Comments: None received. Decision: Approved. No instrument of equivalent scientific value to the foreign instrument, for such purposes as these instruments are intended to be used, was being manufactured in the United States at the time the instruments were ordered. Reasons: Each foreign instrument is an electron microscope and is intended for research or scientific educational uses requiring an electron microscope. We know of no electron microscope, or any other instrument suited to these purposes, which was being manufactured in the United States at the time of order of each instrument.

Dated: June 5, 2007.
Faye Robinson,
Director, Statutory Import Programs Staff.

[FR Doc. E7-11234 Filed 6-8-07; 8:45 am]

BILLING CODE 3510-DS-P